DEPARTMENT OF ENERGY

Federal Energy Regulatory Commission

[Docket No. ER01-1263-001, et al.]

Mirant Zeeland, LLC, et al.; Electric Rate and Corporate Regulation Filings

April 24, 2001.

Take notice that the following filings have been made with the Commission:

1. Mirant Zeeland, LLC ,Mirant Neenah, LLC, Mirant Americas Energy Marketing, LP, Mirant Bowline, LLC, Mirant California, LLC, Mirant Canal, LLC, Mirant Chalk Point, LLC, Mirant Delta, LLC, Mirant Kendall, LLC, Mirant Lovett, LLC, Mirant Mid-Atlantic, LLC, Mirant New England, LLC, Mirant NY-Gen, LLC, Mirant Peaker, LLC, Mirant Potomac River, LLC, and Mirant Potrero, LLC

[Docket Nos. ER01-1263-001-ER01-1278-001]

Take notice that on April 12, 2001, Mirant Zeeland, LLC, Mirant Neenah, LLC, Mirant Americas Energy Marketing, LP, Mirant Bowline, LLC, Mirant California, LLC, Mirant Canal, LLC, Mirant Chalk Point, LLC, Mirant Delta, LLC, Mirant Kendall, LLC, Mirant Lovett, LLC, Mirant Mid-Atlantic, LLC, Mirant New England, LLC, Mirant NY-Gen, LLC, Mirant Peaker, LLC, Mirant Potomac River, LLC, Mirant Potrero, LLC tendered for filing Electric Tariff Sheets with amended header designations (placed in accordance with Order 614). These were corrections, rather than true amendments and do not change our status in any way.

Comment date: May 10, 2001, in accordance with Standard Paragraph E at the end of this notice.

2. PJM Interconnection, L.L.C.

[Docket No. ER00-3513-004]

Take notice that on April 19, 2001, PJM Interconnection, L.L.C. (PJM) tendered for filing revised sheets to PJM's Open Access Transmission Tariff that were filed April 13, 2001 in the above-referenced docket, pursuant to the Commission's March 14, 2001 order in PJM Interconnection, L.L.C., 94 FERC ¶ 61,251 (March 14 Order), to replace the previously filed Tariff sheets that were misdesignated.

PJM states that it served copies of this filing on all parties of record, all PJM Members and the state electric regulatory commissions in the PJM control area.

Comment date: May 10, 2001, in accordance with Standard Paragraph E at the end of this notice.

3. Indigo Generation LLC, Larkspur Energy LLC, and Wildflower Energy LP

[Docket Nos. ER01-1822-000]

Take notice that on April 19, 2001, Indigo Generation LLC, Larkspur Energy LLC, and Wildflower Energy LP (together, the Wildflower Entities) tendered for filing: (1) Accept for filing the Wildflower Entities' proposed FERC Electric Tariffs, and grant their requests for blanket authority to make market-based sales of energy, capacity and certain ancillary services; and (2) grant the Wildflower Entities such waivers and authorizations as have been granted by the Commission to other entities authorized to transact at market-based rates.

Comment date: May 10, 2001, in accordance with Standard Paragraph E at the end of this notice.

4. Virginia Electric and Power Company

[Docket No. ER01-1823-000]

Take notice that on April 19, 2001, Virginia Electric and Power Company (Dominion Virginia Power or the Company) tendered for filing the following Service Agreements with Sempra Energy Trading Corporation (Transmission Customer):

1. Executed Third Amended Service Agreement for Firm Point-to-Point Transmission Service designated Fifth Revised Service Agreement No. 253 under the Company's FERC Electric Tariff, Second Revised Volume No. 5;

2. Executed Third Amended Service Agreement for Non-Firm Point-to-Point Transmission Service designated Fifth Revised Service Agreement No. 49 under the Company's FERC Electric Tariff, Second Revised Volume No. 5.

The foregoing Service Agreements are tendered for filing under the Company's Open Access Transmission Tariff to Eligible Purchasers effective June 7, 2000. Under the tendered Service Agreements, Dominion Virginia Power will provide point-to-point service to the Transmission Customer under the rates, terms and conditions of the Open Access Transmission Tariff. The Company requests waiver of the Commission's regulations to permit an effective date of February 12, 2001.

Copies of the filing were served upon Sempra Energy Trading Corporation, the Virginia State Corporation Commission, and the North Carolina Utilities Commission.

Comment date: May 10, 2001, in accordance with Standard Paragraph E at the end of this notice.

5. Alliant Energy Corporate Services, Inc.

[Docket No. ER01-1824-000]

Take notice that on April 19, 2001, Alliant Energy Corporate Services Inc., tendered for filing a signed Service Agreement under ALTM's Market Based Wholesale Power Sales Tariff (MR-1) between itself and Constellation Power Source, Inc. ALTM respectfully requests a waiver of the Commission's notice requirements, and an effective date of April 10, 2001.

Comment date: May 10, 2001, in accordance with Standard Paragraph E at the end of this notice.

6. Louisville Gas and Electric Company/Kentucky Utilities Company

[Docket No. ER01-1825-000]

Take notice that on April 19, 2001, Louisville Gas and Electric Company (LG&E)/Kentucky Utilities (KU) (hereinafter Companies) tendered for filing an executed unilateral Service Sales Agreement between Companies and Detroit Edison Company under the Companies' Rate Schedule MBSS.

Comment date: May 10, 2001, in accordance with Standard Paragraph E at the end of this notice.

7. Louisville Gas and Electric Company/Kentucky Utilities Company

[Docket No. ER01-1826-000]

Take notice that on April 19, 2001, Louisville Gas and Electric Company (LG&E)/Kentucky Utilities (KU) (hereinafter Companies) tendered for filing an executed unilateral Service Sales Agreement between Companies and Williams Energy Marketing and Trading Company under the Companies' Rate Schedule MBSS.

Comment date: May 10, 2001, in accordance with Standard Paragraph E at the end of this notice.

8. Arizona Public Service Company

[Docket No. ER01-463-004]

Take notice that on April 19, 2001, Arizona Public Service Company (APS) tendered for filing its Compliance to FERC's Order on Compliance Filing in Docket No. ER01-463-002.

A copy of this filing has been served on all parties on the official service list.

Comment date: May 10, 2001, in accordance with Standard Paragraph E at the end of this notice.

9. Cargill-Alliant, LLC

[Docket No. ER97-4273-011]

Take notice that on April 19, 2001, Cargill-Alliant, LLC, tendered for filing an updated market analysis.

Comment date: May 10, 2001, in accordance with Standard Paragraph E at the end of this notice.

10. ONEOK Power Marketing Company

[Docket No. ER98-3897-008]

Take notice that on April 19, 2001, ONEOK Power Marketing Company (OPMC) tendered for filing Electric Tariff, Original Volume No.1, which will supercede Rate Schedule No. 2, in compliance with Commission Order No. 614 and Commission Order dated April 2, 2001 in the referenced proceeding.

OPMC requests an effective date of April 1, 2001.

Comment date: May 10, 2001, in accordance with Standard Paragraph E at the end of this notice.

11. American Electric Power Service Corporation

[Docket No. ER00-2413-005]

Take notice that on April 19, 2001, American Electric Power Service Corporation tendered for filing, on behalf of the operating companies of the American Electric Power System, proposed amendments to the Open Access Transmission Tariff, in compliance with the Commission's February 21, 2001 Order Granting Clarification and Denying Rehearing.

AEP requests an effective date of sixty (60) days from the date of filing. Copies of AEP's filing have been served upon AEP's transmission customers and the public service commissions of Arkansas, Indiana, Kentucky, Louisiana, Michigan, Ohio, Tennessee, Texas, Virginia and West Virginia and the Oklahoma Corporation Commission.

Comment date: May 10, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at ­http://www.ferc.fed.us/efi/doorbell.htm.

David P. Boergers,
Secretary.

[FR Doc. 01-10645 Filed 4-27-01; 8:45 am]

BILLING CODE 6717-01-P